DEPARTMENT OF HEALTH AND HUMAN SERVICES

Centers for Disease Control and Prevention

[30Day-15-15NR]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Capacity Building Assistance Program: Assessment and Quality Control—New—National Center for HIV/AIDS, Viral Hepatitis, STD, and TB Prevention (NCHHSTP), Centers for Disease Control and Prevention (CDC).

Background and Brief Description

The CDC is requesting the Office of Management and Budget (OMB) to grant a three-year approval to collect data that comprises Health Professional Application for Training (HPAT), the Training Follow-up Instrument, the Technical Assistance (TA) Satisfaction Instrument, and the Capacity Building Assistance (CBA) Key Informant Interview. The purpose of this information collection is to assess the degree to which the CDC's CBA program meets the needs of its consumers in order to enhance its capacity building strategy over time. The HPAT serves as the official application form for training and technical activities conducted by the Sexually Transmitted Disease (STD)/Human immunodeficiency virus (HIV) Prevention Training Centers' (PTCs) grantees and the HIV Capacity Building Assistance (CBA providers) grantees funded by the (CDC). The HPAT form is currently approved under OMB Control Number 0920-0995 and expires on October 31, 2016.

The Prevention Training Centers (PTCs) and CBA providers are funded by CDC/Division of STD Prevention (DSTDP) and Division of HIV/AIDS Prevention (DHAP) over the five-year period to provide capacity-building services that includes information, training, and technical assistance. CBA services are requested and provided to support health departments, community-based organizations, and healthcare organizations in the implementation, monitoring and evaluation of evidence-based HIV prevention interventions and programs; building organizational infrastructure; and community mobilization to decrease stigma and increase HIV testing in high risk communities. Under this project, there will be no duplication of information collection, because it builds on existing, OMB approved data collection activities.

The PTCs and CBA providers offer classroom and experiential training, web-based training, clinical consultation, and capacity building assistance to maintain and enhance the capacity of healthcare professionals to control and prevent STDs and HIV.

The CBA service recipients are healthcare professionals such as, physicians, nurses, and health educators, etc., who work at community-based organizations (CBOs), health departments, and healthcare organizations, most of whom are funded directly or indirectly by the CDC, involved in HIV prevention service delivery.

CDC is requesting to use two web-based assessments that will be administered to recipients of CBA services: (1) Training Follow-Up Instrument and (2) Technical Assistance (TA) Satisfaction Instrument. The first quantitative assessment will be disseminated 90 days after a training event to agency staff who participated in a training activity. It takes approximately 15 minutes to complete. The purpose of this web-based assessment is to determine the training participants' satisfaction with the trainers, training materials, and the course pace, benefits from the training, and CBA needs, how relevant the training was to their work, and whether they were able to utilize the information gained from the training. The second quantitative assessment will be disseminated 45 days after a technical assistance event to agency staff who participated in a technical assistance and will take about 15 minutes. The second assessment will measure participants' satisfaction with the technical assistance they received, intended or actual use of enhanced capacity, barriers and facilitators to use, and benefits of the technical assistance.

The purpose of the contractor administered CBA Key Informant Interview is to collect qualitative information to assess the impact of CBA services on organizational capacity (e.g., application of knowledge and skills, potential organization changes as a result of CBA services) and to solicit information about how the CBA program can be improved. These interviews will be conducted via telephone for up to 15 minutes with a subset of up to 40 recipients of CBA services.

The respondents represent an average of the number of health professionals who receive training and technical assistance from the CBA and PTC grantees. The data collection is necessary (a) to assess CBA consumers' (community-based organizations, health departments, and healthcare organizations) satisfaction with and short-term outcomes from the overall CBA program as well as specific elements of the CBA program; (b) to improve CBA services and enhance the Capacity Building Branch's national capacity building strategy over time; (c) to assess the performance of the grantees in delivering training and technical assistance and to standardize the registration processes across the two CBA programs (i.e., the PTC program and the CBA program) and multiple grantees funded by each program.

There are no costs to respondents other than their time. The estimated annualized burden hours are 8,643 hours.

Estimated Annualized Burden Hours
Type of respondent | Form name | Number of respondents | Number of responses per respondent | Average burden per response (in hours)
Healthcare Professionals | Health Professional Application for Training (HPAT) | 7,400 | 2 | 5/60
Healthcare Professionals | Training Follow-up Instrument | 3,700 | 2 | 15/60
Healthcare Professionals | Training Telephone Script | 3,700 | 2 | 15/60
Healthcare Professionals | Technical Assistance (TA) Satisfaction Instrument | 3,700 | 2 | 15/60
Healthcare Professionals | Technical Assistance Telephone Script | 3,700 | 2 | 15/60
Healthcare Professionals | CBA Key Informant Interview Script | 40 | 1 | 15/60

Leroy A. Richardson,
Chief, Information Collection Review Office, Office of Scientific Integrity, Office of the Associate Director for Science, Office of the Director, Centers for Disease Control and Prevention.

[FR Doc. 2015-20477 Filed 8-18-15; 8:45 am]

BILLING CODE 4163-18-P